OFFICE OF PERSONNEL MANAGEMENT

[OMB Control No. 3206-0216; Form RI 98-7]

Submission for OMB Review; Extension of a Currently Approved Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for extension of a currently approved information collection. “We Need Important Information About Your Eligibility for Social Security Disability Benefits” (OMB Control No. 3206-0216; Form RI 98-7), is used by OPM to verify receipt of Social Security Administration (SSA) disability benefits, to lessen or avoid overpayment to Federal Employees Retirement System (FERS) disability retirees. It notifies the annuitant of the responsibility to notify OPM if SSA benefits begin and the overpayment that will occur with the receipt of both benefits.

Approximately 4,300 RI 98-7 forms will be completed annually. The form takes approximately 5 minutes to complete. The annual burden is 358 hours.

For copies of this proposal, contact Cyrus S. Benson on (202) 606-4808, FAX (202) 606-0910 or via e-mail to Cyrus.Benson@opm.gov. Please include a mailing address with your request.

DATES: Comments on this proposal should be received within 30 calendar days from the date of this publication.

ADDRESSES: Send or deliver comments to—James K. Freiert (Acting), Deputy Associate Director, Retirement Operations, Retirement Services, U.S. Office of Personnel Management, 1900 E Street, NW., Room 3305, Washington, DC 20415-3500 and OPM Desk Officer, Office of Information & Regulatory Affairs, Office of Management and Budget, New Executive Office Building, 725 17th Street, NW., Room 10235, Washington, DC 20503.

For information regarding administrative coordination contact: Cyrus S. Benson, Team Leader, Publications Team, RS/RM/Administrative Services, U.S. Office of Personnel Management, 1900 E Street, NW., Room 4H28, Washington, DC 20415, (202) 606-4808.

John Berry,
Director, U.S. Office of Personnel Management.

[FR Doc. 2010-29052 Filed 11-17-10; 8:45 am]

BILLING CODE 6325-38-P